DEPARTMENT OF DEFENSE

Office of the Secretary

Meeting Notice—Military Justice Review Panel

AGENCY: General Counsel of the Department of Defense, Department of Defense (DoD).

ACTION: Notice of meeting.

SUMMARY: The DoD is publishing this notice to announce that the Military Justice Review Panel will host an open meeting on January 16-17, 2024.

DATES: Tuesday, January 16, 2024—Open to the public from 9:45 a.m. to 11:45 a.m. and 12:45 p.m. to 2 p.m. eastern standard time (EST) and Wednesday, January 17, 2024—Open to the public from 10:15 a.m. to 12 p.m. and 1 p.m. to 2:45 p.m. EST.

ADDRESSES: This meeting will be held at the General Gordon R. Sullivan Conference and Event Center, 2425 Wilson Blvd., Arlington, VA 22201. The meeting can be accessed virtually via the following dial-in number and links: Dial-in: +1 646 828 7666, Meeting ID: 161 535 0618 Passcode: 654321. Link: https://www.zoomgov.com/j/1615350618?pwd=NFowUHFKSVQvOUprZUFaOVd6RmxJZz09. Meeting ID: 161 535 0618 Passcode: 654321. For those who would like to attend, please send registration information to whs.pentagon.em.mbx.mjrp@mail.mil, providing your name, email, organization (if applicable), and telephone number.

FOR FURTHER INFORMATION CONTACT: Mr. Pete L. Yob, 703-693-3857 (Voice), louis.p.yob.civ@mail.mil (Email). Mailing address is MJRP, One Liberty Center, 875 N Randolph Street, Suite 150, Arlington, Virginia 22203. The most up-to-date changes to the meeting agenda can be found on the website: https://mjrp.osd.mil.

SUPPLEMENTARY INFORMATION: Pursuant to § 5521 of the National Defense Authorization Act (NDAA) for Fiscal Year (FY) 2017, as amended by § 531(k) of the FY 2018 NDAA, the Secretary of Defense established this panel to conduct independent periodic reviews and assessments of the operation of the Uniform Code of Military Justice (UCMJ). (10 U.S.C. 946. Art. 146 (effective Jan 1, 2019)).

Purpose of the Meeting: Pursuant to UCMJ, Article 146, the MJRP shall conduct independent periodic reviews and assessments of the operation of the UCMJ. This will be the ninth meeting held by the MJRP. On Day 1, the MJRP will hold two open sessions. The first session will be composed of former military judges. After a lunch break, the MJRP will hear from a panel of special victims' counsel. On Day 2, MJRP members will hold two open sessions. First, the MJRP will hear from a panel composed of military appellate government counsel followed by a second session composed of military appellate defense counsel.

Dated: December 21, 2023.
Aaron T. Siegel,
Alternate OSD Federal Register Liaison Officer, Department of Defense.

[FR Doc. 2023-28717 Filed 12-27-23; 8:45 am]

BILLING CODE 6001-FR-P